DEPARTMENT OF ENERGY

Federal Energy Regulatory Commission

[Project No. 15230-002]

Pike Island Hydropower Corporation; Notice of Application Accepted for Filing and Soliciting Motions To Intervene and Protests

Take notice that the following hydroelectric application has been filed with the Commission and is available for public inspection.

a. Type of Application: Original Major License.

b. Project No.: 15230-002.

c. Date Filed: May 14, 2024.

d. Applicant: Pike Island Hydropower Corporation.

e. Name of Project: Pike Island Hydroelectric Project (Pike Island Project).

f. Location: The Pike Island Project would be located at the U.S. Army Corps of Engineers' (Corps) Pike Island Locks and Dam on the Ohio River in Belmont County, Ohio. The project would occupy 2 acres of Federal land administered by the Corps.

g. Filed Pursuant to: Federal Power Act 16 U.S.C. 791(a)-825(r).

h. Applicant Contact: Mr. Jeremy King, Current Hydro, LLC, 3120 Southwest Freeway, Suite 101, PMB 50808, Houston, TX 77098.

i. FERC Contact: Colleen Corballis at (202) 502-8598 or colleen.corballis@ferc.gov; or Shivani Khetani at (212) 273-5917 or Shivani.khetani@ferc.gov.

j. Deadline for filing motions to intervene and protests: 60 days from the issuance date of this notice.

The Commission strongly encourages electronic filing. Please file motions to intervene and protests using the Commission's eFiling system at https://ferconline.ferc.gov/FERCOnline.aspx. Commenters can submit brief comments up to 6,000 characters, without prior registration, using the eComment system at https://ferconline.ferc.gov/QuickComment.aspx. For assistance, please contact FERC Online Support at FERCOnlineSupport@ferc.gov, (866) 208-3676 (toll free), or (202) 502-8659 (TTY). In lieu of electronic filing, you may submit a paper copy. Submissions sent via the U.S. Postal Service must be addressed to: Debbie-Anne A. Reese, Secretary, Federal Energy Regulatory Commission, 888 First Street NE, Room 1A, Washington, DC 20426. Submissions sent via any other carrier must be addressed to: Debbie-Anne A. Reese, Secretary, Federal Energy Regulatory Commission, 12225 Wilkins Avenue, Rockville, Maryland 20852. All filings must clearly identify the project name and docket number on the first page: Pike Island Hydroelectric Project (P-15230-002).

The Commission's Rules of Practice require all intervenors filing documents with the Commission to serve a copy of that document on each person on the official service list for the project. Further, if an intervenor files comments or documents with the Commission relating to the merits of an issue that may affect the responsibilities of a particular resource agency, they must also serve a copy of the document on that resource agency.

k. This application has been accepted for filing but is not ready for environmental analysis.

l. The Pike Island Project would be located the Corps' existing Pike Island Locks and Dam and would consist of the following new facilities: (1) a 101-foot-wide, 193-foot-long reinforced concrete powerhouse; (2) a 90-foot-wide, 110-foot-long intake section with trash racks; (3) two Kaplan pit turbine-generators with a combined capacity of 19.99 megawatts; (4) a 95-foot-wide, 150-foot-long tailrace channel; (5) a 13.8-kilovolt (kV), 550-foot-long underground utilidor crossing under River Road; (6) a 2,223 foot-long, 69-kV, three phase overhead transmission line connecting the powerhouse substation to the 69-kV Glenn Run-Tiltonsville interconnection point in Ohio; and (7) appurtenant facilities.

m. A copy of the application is available for review via the internet through the Commission's Home Page (http://www.ferc.gov), using the “eLibrary” link. Enter the docket number, excluding the last three digits in the docket number field, to access the document. For assistance, contact FERC at FERCOnlineSupport@ferc.gov or call toll free, (886) 208-3676 or TTY (202) 502-8659.

You may also register online at https://ferconline.ferc.gov/FERCOnline.aspx to be notified via email of new filings and issuances related to this or other pending projects. For assistance, contact FERC Online Support.

n. The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

o. Any qualified applicant desiring to file a competing application must submit to the Commission, on or before the specified intervention deadline date, a competing development application, or a notice of intent to file such an application. Submission of a timely notice of intent allows an interested person to file the competing development application no later than 120 days after the specified intervention deadline date. Applications for preliminary permits will not be accepted in response to this notice.

A notice of intent must specify the exact name, business address, and telephone number of the prospective applicant, and must include an unequivocal statement of intent to submit a development application. A notice of intent must be served on the applicant(s) named in this public notice.

Anyone may submit comments, a protest, or a motion to intervene in accordance with the requirements of Rules of Practice and Procedure, 18 CFR 385.210, .211, and .214. In determining the appropriate action to take, the Commission will consider all protests or other comments filed, but only those who file a motion to intervene in accordance with the Commission's Rules may become a party to the proceeding. Any comments, protests, or motions to intervene must be received on or before the specified comment date for the particular application.

All filings must (1) bear in all capital letters the title “PROTEST” or “MOTION TO INTERVENE,” “NOTICE OF INTENT TO FILE COMPETING APPLICATION,” or “COMPETING APPLICATION;” (2) set forth in the heading the name of the applicant and the project number of the application to which the filing responds; (3) furnish the name, address, and telephone number of the person protesting or intervening; and (4) otherwise comply with the requirements of 18 CFR 385.2001 through 385.2005. Agencies may obtain copies of the application directly from the applicant. A copy of any protest or motion to intervene must be served upon each representative of the applicant specified in the particular application.

p. Procedural Schedule: The application will be processed according to the following schedule. Revisions to the schedule will be made as appropriate.

Issue Scoping Document 1 for comments—April 2025

Comments on Scoping Document 1 due—May 2025

Request Additional Information (if necessary)—June 2025

Issue Scoping Document 2 (if necessary)—June 2025

Dated: January 16, 2025.
Debbie-Anne A. Reese,
Secretary.

[FR Doc. 2025-01579 Filed 1-22-25; 8:45 am]

BILLING CODE 6717-01-P